DEPARTMENT OF ENERGY

Federal Energy Regulatory Commission

Combined Notice of Filings No. 1

March 3, 2010.

Take notice that the Commission has received the following Natural Gas Pipeline Rate and Refund Report filings:

Docket Numbers: RP10-429-000.

Applicants: Dominion Transmission, Inc.

Description: Dominion Transmission, Inc submits Eleventh Revised Sheet No. 36 et al. to FERC Gas Tariff, Third Revised Volume No. 1.

Filed Date: 02/26/2010.

Accession Number: 20100226-0038.

Comment Date: 5 p.m. Eastern Time on Wednesday March 10, 2010.

Docket Numbers: RP10-430-000.

Applicants: Eastern Shore Natural Gas Company.

Description: Report of Eastern Shore Natural Gas Company.

Filed Date: 03/01/2010.

Accession Number: 20100301-5225.

Comment Date: 5 p.m. Eastern Time on Monday, March 15, 2010.

Docket Numbers: RP10-431-000.

Applicants: Millennium Pipeline Company, LLC.

Description: Annual Report Pursuant to GTC 54.3 of Tariff Reporting Operational Transactions for Calendar Year 2009.

Filed Date: 03/01/2010.

Accession Number: 20100301-5226.

Comment Date: 5 p.m. Eastern Time on Monday, March 15, 2010.

Docket Numbers: RP10-432-000.

Applicants: Empire Pipeline, Inc.

Description: Annual Report of Empire Pipeline, Inc. pursuant to GT&C Section 23.5—Compressor Fuel Factors and Other Gas for Transporter's Use.

Filed Date: 03/01/2010.

Accession Number: 20100301-5227.

Comment Date: 5 p.m. Eastern Time on Monday, March 15, 2010.

Docket Numbers: RP10-433-000.

Applicants: Columbia Gas Transmission, LLC.

Description: Columbia Gas Transmission, LLC submits Third Revised Sheet No. 37 to FERC Gas Tariff, Third Revised Volume No. 1.

Filed Date: 03/01/2010.

Accession Number: 20100302-0213.

Comment Date: 5 p.m. Eastern Time on Monday, March 15, 2010.

Docket Numbers: RP10-434-000.

Applicants: Columbia Gas Transmission, LLC.

Description: Columbia Gas Transmission, LLC submits the FTS Service Agreement with CI McKown and Son, Inc.

Filed Date: 03/01/2010.

Accession Number: 20100302-0214.

Comment Date: 5 p.m. Eastern Time on Monday, March 15, 2010.

Docket Numbers: RP10-435-000.

Applicants: Central Kentucky Transmission Company.

Description: Central Kentucky Transmission Company submits Ninth Revised Sheet No. 6 to FERC Gas Tariff, Original Volume No. 1, to be effective 4/1/2010.

Filed Date: 03/01/2010.

Accession Number: 20100302-0242.

Comment Date: 5 p.m. Eastern Time on Monday, March 15, 2010.

Docket Numbers: RP10-436-000.

Applicants: MarkWest Pioneer, L.L.C.

Description: MarkWest Pioneer, LLC submits Third Revised Sheet No 5 to FERC Gas Tariff, Original Volume No 1, to be 4/1/2010.

Filed Date: 03/01/2010.

Accession Number: 20100302-0241.

Comment Date: 5 p.m. Eastern Time on Monday, March 15, 2010.

Docket Numbers: RP10-437-000.

Applicants: Viking Gas Transmission Company.

Description: Viking Gas Transmission Company submits an amendment to a non conforming transportation service agreement, to be effective 4/1/2010.

Filed Date: 03/01/2010.

Accession Number: 20100302-0240.

Comment Date: 5 p.m. Eastern Time on Monday, March 15, 2010.

Docket Numbers: RP10-438-000.

Applicants: Kinder Morgan Interstate Gas Trans. LLC.

Description: Kinder Morgan Interstate Gas Transmission LLC submits Eighteenth Revised Sheet No 4G et al. to FERC Gas Tariff, Fourth Revised Volume No 1A, to be effective 3/1/2010.

Filed Date: 03/01/2010.

Accession Number: 20100302-0239.

Comment Date: 5 p.m. Eastern Time on Monday, March 15, 2010.

Docket Numbers: RP10-439-000.

Applicants: Williston Basin Interstate Pipeline Comp.

Description: Williston Basin Interstate Pipeline Company submits its Annual Fuel and Electric Power Reimbursement Adjustment pursuant to Section 38 of its FERC Gas Tariff, Second Revised Volume 1.

Filed Date: 03/01/2010.

Accession Number: 20100302-0238.

Comment Date: 5 p.m. Eastern Time on Monday, March 15, 2010.

Docket Numbers: RP10-440-

Applicants: Cheniere Creole Trail Pipeline, L.P.

Description: Cheinere Creole Trail Pipeline, LP submits Second Revised Sheet 5 to Original Volume 1, to be effective 4/1/2010.

Filed Date: 03/01/2010.

Accession Number: 20100302-0243.

Comment Date: 5 p.m. Eastern Time on Monday, March 15, 2010.

Docket Numbers: RP10-441-000.

Applicants: Millennium Pipeline Company, LLC.

Description: Millennium Pipeline Company, LLC submits Second Revised Sheet No. 7 to FERC Gas Tariff, Original Volume No. 1, to be effective 4/1/2010.

Filed Date: 03/01/2010.

Accession Number: 20100302-0237.

Comment Date: 5 p.m. Eastern Time on Monday, March 15, 2010.

Docket Numbers: RP10-442-000.

Applicants: ANR Storage Company

Description: ANR Storage Company submits Fifth Revised Sheet 0 et al. to FERC Gas Tariff, Original Volume 1.

Filed Date: 03/01/2010.

Accession Number: 20100302-0236

Comment Date: 5 p.m. Eastern Time on Monday, March 15, 2010.

Docket Numbers: RP10-443-000.

Applicants: Cimarron River Pipeline, LLC

Description: Cimarron River Pipeline, LLC submits Second Revised Sheet No. 17 to FERC Gas Tariff, Original Volume No 1.

Filed Date: 03/01/2010

Accession Number: 20100302-0235.

Comment Date: 5 p.m. Eastern Time on Monday, March 15, 2010.

Docket Numbers: RP10-444-000.

Applicants: Equitrans, L.P.

Description: Equitrans, LP submit Twenty-Seventh Revised Sheet No. 5 et al. to FERC Gas Tariff, Original Volume No. 1.

Filed Date: 03/01/2010.

Accession Number: 20100302-0234.

Comment Date: 5 p.m. Eastern Time on Monday, March 15, 2010.

Docket Numbers: RP10-445-000.

Applicants: Northern Border Pipeline Company.

Description: Northern Border Pipeline Company submits Seventh Revised Sheet 303A et al. to FERC Gas Tariff, First Revised Volume 1, to be effective 3/31/10.

Filed Date: 03/01/2010.

Accession Number: 20100302-0252.

Comment Date: 5 p.m. Eastern Time on Monday, March 15, 2010.

Docket Numbers: RP10-446-000.

Applicants: Guardian Pipeline, LLC

Description: Guardian Pipeline, LLC submits Fourteenth Revised Sheet No. 6 et al. to FERC Gas Tariff, Original Volume No. 1.

Filed Date: 03/01/2010.

Accession Number: 20100302-0233.

Comment Date: 5 p.m. Eastern Time on Monday, March 15, 2010.

Docket Numbers: RP10-447-000.

Applicants: Energy West Development, Inc.

Description: West Development, Inc submits Sixth Revised Sheet 3 et al. of its FERC Gas Tariff, Volume 1, to be effective 4/1/2010.

Filed Date: 03/01/2010.

Accession Number: 20100302-0232.

Comment Date: 5 p.m. Eastern Time on Monday, March 15, 2010.

Docket Numbers: RP10-448-000.

Applicants: Blue Lake Gas Storage Company.

Description: Blue Lake Gas Storage Co submits Third Revised Sheet No. 0 et al. to FERC Gas Tariff, First Revised Volume No. 1.

Filed Date: 03/01/2010.

Accession Number: 20100302-0231.

Comment Date: 5 p.m. Eastern Time on Monday, March 15, 2010.

Docket Numbers: RP10-449-000.

Applicants: Kern River Gas Transmission Company.

Description: Kern River Gas Transmission Company submits Second Revised Second Twentieth Revised Sheet 5 et al. of its FERC Gas Tariff, Second Revised Volume 1, to be effective 4/1/2010.

Filed Date: 03/01/2010.

Accession Number: 20100302-0230.

Comment Date: 5 p.m. Eastern Time on Monday, March 15, 2010.

Docket Numbers: RP10-450-000.

Applicants: Columbia Gulf Transmission Company.

Description: Columbia Gulf Transmission Company submits Fifty-First Revised Sheet 18 et al. to its FERC Gas Tariff, Second Revised Volume 1, to be effective 11/1/2010.

Filed Date: 03/01/2010.

Accession Number: 20100302-0229.

Comment Date: 5 p.m. Eastern Time on Monday, March 15, 2010.

Docket Numbers: RP10-451-000.

Applicants: ANR Pipeline Company

Description: ANR Pipeline Company submits Second Revised Sheet 10A et al. to its FERC Gas Tariff, Second Revised Volume 1 to be effective 4/1/10.

Filed Date: 03/01/2010.

Accession Number: 20100302-0246.

Comment Date: 5 p.m. Eastern Time on Monday, March 15, 2010.

Docket Numbers: RP10-452-000.

Applicants: Gulf Crossing Pipeline Company LLC.

Description: Gulf Crossing Pipeline Co, LLC submits First Revised Sheet No. 101 to FERC Gas Tariff, Original Volume No. 1.

Filed Date: 03/02/2010.

Accession Number: 20100302-0245.

Comment Date: 5 p.m. Eastern Time on Monday, March 15, 2010.

Docket Numbers: RP10-453-000.

Applicants: Texas Gas Transmission, LLC.

Description: Texas Gas Transmission, LLC submits the Non-Conforming Service Agreement, Sixth Revised Sheet No. 99A to FERC Gas Tariff, Third Revised Volume No. 1.

Filed Date: 03/02/2010.

Accession Number: 20100302-0244.

Comment Date: 5 p.m. Eastern Time on Monday, March 15, 2010.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-5062 Filed 3-9-10; 8:45 am]

BILLING CODE 6717-01-P